DEPARTMENT OF COMMERCE

International Trade Administration

Applications for Duty-Free Entry of Scientific Instruments

Pursuant to Section 6(c) of the Educational, Scientific and Cultural Materials Importation Act of 1966 (Pub. L. 89-651, as amended by Pub. L. 106-36; 80 Stat. 897; 15 CFR part 301), we invite comments on the question of whether instruments of equivalent scientific value, for the purposes for which the instruments shown below are intended to be used, are being manufactured in the United States.

Comments must comply with 15 CFR 301.5(a)(3) and (4) of the regulations and be postmarked on or before March 10, 2009. Address written comments to Statutory Import Programs Staff, Room 3720, U.S. Department of Commerce, Washington, D.C. 20230. Applications may be examined between 8:30 A.M. and 5:00 P.M. at the U.S. Department of Commerce in Room 3720.

Docket Number: 08-050. Applicant: University of Colorado, Department of Mechanical Engineering, 427 UCB, ECME 114, Boulder, CO 80309-0427. Instrument: Dual Beam FIB Electron Microscope. Manufacturer: FEI Company, Czech Republic. Intended Use: The instrument will be used to fabricate micrometer/nanometer scale devices and test samples in the Nanomaterials Characterization Facility. Application accepted by Commissioner of Customs: September 25, 2008.

Docket Number: 08-051. Applicant: Lawrence Berkeley National Laboratory, One Cyclotron Road, MS: 937-0200, Berkeley, CA 94720. Instrument: Electron Microscope. Manufacturer: FEI Company, The Netherlands. Intended Use: The instrument will be used to develop a new class of electron imaging, down to resolution, which can provide new capabilities including an in-situ experimental stage. Application accepted by Commissioner of Customs: September 30, 2008.

Docket Number: 08-062. Applicant: Carnegie Mellon University, 5000 Forbes Avenue, Pittsburgh, PA 15213. Instrument: Scanning Electron Microscope. Manufacturer: FEI Company, The Netherlands. Intended Use: The instrument is to be equipped with an orientation imaging system for the study of grain boundary energy on a wide range of materials, including metals, ceramics and semiconductors. Application accepted by Commissioner of Customs: January 14, 2009.

Dated: February 12, 2009.
Chris Cassel,
Acting Director, IA Subsidies Enforcement Office.

[FR Doc. E9-3406 Filed 2-17-09; 8:45 am]

BILLING CODE 3510-DS-S